ELECTION ASSISTANCE COMMISSION

Sunshine Act Amended Notice

AGENCY: United States Election Assistance Commission.

ACTION: Notice of public meeting.

Date and Time: Wednesday, April 18, 2007, 1 p.m.-4 p.m.

Place: Westin Crown Center, Room: Washington Park 3, One East Pershing Road, Kansas City, Missouri 64108, (816) 474-4400.

Agenda: The Commission will receive a presentation on and consider adopting a Spanish translation glossary of election terminology. The Commission will elect a vice-chair and will receive a presentation on the development of its election management guidelines. The Commission will also consider other administrative matters.

This meeting will be open to the public.

Person to Contact for Information: Bryan Whitener, Telephone: (202) 566-3100.

Thomas R. Wilkey,
Executive Director, U.S. Election Assistance Commission.

[FR Doc. 07-1943 Filed 4-16-07; 1:46 pm]

BILLING CODE 6820-KF-M